NATIONAL SCIENCE FOUNDATION

Agency Information Collection Activities: Comment Request

AGENCY: National Science Foundation.

ACTION: Notice.

SUMMARY: Under the Paperwork Reduction Act of 1995, Public Law 104-13 (44 USC U.S.C. 3506(c)(2)(A)), and as part of its continuing effort to reduce paperwork and respondent burden, the National Science Foundation invites the general public and other Federal agencies to take this opportunity to comment on this information collection.

DATES: Written comments should be received by February 25, 2013 to be assured of consideration. Comments received after that date will be considered to the extent practicable.

ADDRESSES: Written comments regarding the information collection and requests for copies of the proposed information collection request should be addressed to Suzanne Plimpton, Reports Clearance Officer, National Science Foundation, 4201 Wilson Blvd., Rm. 295, Arlington, VA 22230, or by email to splimpto@nsf.gov.

FOR ADDITIONAL INFORMATION OR COMMENTS: Contact Suzanne Plimpton, the NSF Reports Clearance Officer, phone (703) 292-7556, or send email to splimpto@nsf.gov. Individuals who use a telecommunications device for the deaf (TDD) may call the Federal Information Relay Service (FIRS) at 1-800-877-8339, which is accessible 24 hours a day, 7 days a week, 365 days a year (including federal holidays).

SUPPLEMENTARY INFORMATION: Title: Generic Clearance of the Science Resources Statistics Survey Improvement Projects.

OMB Approval Number: 3145-0174.

Expiration Date of Approval: May 31, 2013.

Abstract. Established within the National Science Foundation by the America COMPETES Reauthorization Act of 2010 § 505, codified in the National Science Foundation Act of 1950, as amended, the National Center for Science and Engineering Statistics (NCSES) serves as a central Federal clearinghouse for the collection, interpretation, analysis, and dissemination of objective data on science, engineering, technology, and research and development for use by practitioners, researchers, policymakers, and the public. NCSES conducts about a dozen nationally-representative surveys to obtain the data for these purposes. The Generic Clearance will be used to ensure that the highest quality data are obtained from these surveys. State of the art methodology will be used to develop, evaluate, and test questionnaires and survey concepts as well as to improve survey methodology. This may include field or pilot tests of questions for future large scale surveys, as needed.

Expected Respondents. The respondents will be from industry, academia, nonprofit organizations, members of the public, and State, local, and Federal governments. Respondents will be either individuals or institutions, depending upon the survey under investigation. Qualitative procedures will generally be conducted in person or over the phone, but quantitative procedures may be conducted using mail, Web, email, or phone modes, depending on the topic under investigation. Up to 11,060 respondents will be contacted across all survey improvement projects. No respondent will be contacted more than twice in one year under this generic clearance. Every effort will be made to use technology to limit the burden on respondents from small entities.

Both qualitative and quantitative methods will be used to improve NCSES's current data collection instruments and processes and to reduce respondent burden, as well as to develop new surveys. Qualitative methods include, but are not limited to, expert review; exploratory, cognitive, and usability interviews; focus groups; and respondent debriefings. Cognitive and usability interviews may include the use of scenarios, paraphrasing, card sorts, vignette classifications, and rating tasks. Quantitative methods include, but are not limited to, telephone surveys, behavior coding, split panel tests, and field tests.

Use of the Information. The purpose of these studies is to use the latest and most appropriate methodology to improve NCSES surveys and evaluate new data collection efforts. Methodological findings may be presented externally in technical papers at conferences, published in the proceedings of conferences, or in journals. Improved NCSES surveys will help policy makers in decisions on research and development funding, graduate education, and the scientific and technical workforce, as well as contributing to reduced survey costs.

Burden on the Public. NCSES estimates that a total reporting and recordkeeping burden of 14,280 hours will result from activities to improve its surveys. The calculation is shown in Table 1.

Table 1—Potential surveys for improvement projects, with the number of respondents and burden hours
Survey name | Number of respondents [1] | Hours
Graduate Student Survey | [2]1,500 | 2,500
SESTAT Surveys | 4,700 | 3,350
Early Career Doctorate Project | 1,000 | 800
New and Redesigned R&D Surveys | 400 |
Higher Education R&D | 60 | 1,200
Government R&D | 100 | 180
Nonprofit R&D | 50 | 300
Business R&D | 150 | 150
Microbusiness R&D |  | 450
Survey of Scientific & Engineering Facilities | 300 | 300
Public Understanding of S&E Surveys | 200 | 50
Survey of Earned Doctorates | 1,000 | 800
Additional surveys not specified | 1,600 | 4,200
Total | 11,060 | 14,280
1 Number of respondents listed for any individual survey may represent several methodological improvement projects.
2 This number refers to the science, engineering, and health-related departments within the academic institutions of the United States (not the academic institutions themselves).

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; Comments submitted in response to this notice will be summarized and/or included in the request for OMB approval of this information collection; they also will become a matter of public record.

Dated: December 20, 2012.
Suzanne Plimpton,
Reports Clearance Officer, National Science Foundation.

[FR Doc. 2012-31045 Filed 12-21-12; 4:15 pm]

BILLING CODE 7555-01-P